DEPARTMENT OF LABOR

Employment and Training Administration

[TA-W-37, 511]

Avent Inc.; Kimberly-Clark Corporation, Tuscon, Arizona; Notice of Termination of Investment

Pursuant to Section 221 of the Trade Act of 1974, an investigation was initiated on March 27, 2000, in response to a worker petition which was filed by the company on behalf of workers at Avent Inc., a Division of Kimberly-Clark Corporation, located in Tucson, Arizona.

The petitioner has requested that the petition be withdrawn. Consequently further investigation in this case would serve no purpose, and the investigation in this case would serve no purpose, and the investigation has been terminated.

Signed in Washington, DC this 28th day of April, 2000.
Grant D. Beale,
Program Manager, Office of Trade Adjustment Assistance.

[FR Doc. 00-11827 Filed 5-10-00; 8:45 am]

BILLING CODE 4510-30-M